DEPARTMENT OF LABOR

Employment and Training Administration

[TA-W-38,750]

Portex Technologies, College Point, New York; Dismissal of Application for Reconsideration

Pursuant to 29 CFR 90.18(C) an application for administrative reconsideration was filed with the Director of the Division of Trade Adjustment Assistance for workers at Portex Technologies, College Point, New York. The application contained no new substantial information which would bear importantly on the Department's determination. Therefore, dismissal of the application was issued.

TA-W-38,750; Portex Technologies College Point, New York (November 1, 2001)

Signed at Washington, DC this 16th day of January, 2002.
Edward A. Tomchick,
Director, Division of Trade Adjustment Assistance.

[FR Doc. 02-1785 Filed 1-23-02; 8:45 am]

BILLING CODE 4510-30-M